DEPARTMENT OF COMMERCE

International Trade Administration

[A-570-878]

Saccharin from the People's Republic of China: Postponement of Final Determination of Antidumping Duty Investigation

AGENCY: Import Administration, International Trade Administration, Department of Commerce.

EFFECTIVE DATE: February 11, 2003.

FOR FURTHER INFORMATION CONTACT: Mark Hoadley (Suzhou Fine Chemicals Group Co., Ltd.) at (202) 482-3148, and Javier Barrientos (Shanghai Fortune Chemical Co., Ltd.) at (202) 482-2243; Office of AD/CVD Enforcement VII, Import Administration, International Trade Administration, U.S. Department of Commerce, 14th Street and Constitution Avenue, NW., Washington, DC.

SUPPLEMENTARY INFORMATION:

Statutory Time Limits

Section 735(a)(1) of the Tariff Act of 1930, as amended (the Act), requires the Department to issue the final determination regarding sales at less than fair value (LTFV) in an investigation within 75 days after the date of its preliminary determination. However, section 735(a)(2) of the Act states that the Department may postpone the final determination until not later than 135 days after the date of publication of the preliminary determination, if, in the case of a proceeding in which the preliminary determination was affirmative, a request in writing for such a postponement is made by exporters who account for a significant portion of the exports of subject merchandise. Section 351.210(e)(2) of the Department's regulations further states that the exporter must also request that the Department extend the provisional measures from a four-month period to a period of not more than six months.

Background

On July 31, 2002, the Department initiated an investigation to determine whether imports of saccharin are being, or are likely to be, sold in the United States at LTFV (67 FR 51536 (August 8, 2002)). On August 30, 2002, the International Trade Commission (ITC) published its preliminary determination that there is a reasonable indication that an industry in the United States is materially injured by reason of imports of saccharin from the PRC. See Saccharin from China, 67 FR 55872 (August 30, 2002). On December 27, 2002, the Department published its preliminary determination in this investigation. See Notice of Preliminary Determination of Sales at Less than Fair Value: Saccharin from the People's Republic of China, 67 FR 79049 (December 27, 2002). On December 31, 2002, the two respondents selected in this investigation, Shanghai Fortune Chemicals Co., Ltd. and Suzhou Fine Chemicals Group Co., Ltd., as well as Kaifeng Xinghua Fine Chemical Factory, requested that the Department postpone the final determination. On January 7, 2003, the same parties requested that the Department extend the provisional measures period from four months to a period not longer than six months.

Postponement of Final Determination

Given the fact that the Department made an affirmative preliminary determination and exporters/producers of subject merchandise accounting for a significant portion of the exports during the period of investigation requested postponement and also asked that the Department extend the provisional measures from a four-month period to a period of not more than six months, as required by the Department's regulations, we are postponing the final determination until no later than May 12, 2003 (i.e., 135 days after the publication of the preliminary determination; however, since May 11, falls on a weekend, the due date will fall on the next business day, May 12). This extension is in accordance with section 735(a)(2)(A) of the Act and 19 CFR 351.210(g).

Dated: February 3, 2003.
Faryar Shirzad,
Assistant Secretary for Import Administration.

[FR Doc. 03-3403 Filed 2-10-03; 8:45 am]

BILLING CODE 3510-DS-M